DEPARTMENT OF DEFENSE

Office of the Secretary

[Docket ID: DOD-2011-OS-0062]

Proposed Collection; Comment Request

AGENCY: National Security Agency/Central Security Service, DoD.

ACTION: Notice.

SUMMARY: In compliance with Section 3506(c)(2)(A) of the Paperwork Reduction Act of 1995, the National Security Agency/Central Security Service announces a new proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by August 8, 2011.

ADDRESSES: You may submit comments, identified by docket number and title, by any of the following methods:

• Federal eRulemaking Portal: http://www.regulations.gov. Follow the instructions for submitting comments.

• Mail: Federal Docket Management System Office, 1160 Defense Pentagon, Washington, DC 20301-1160.

Instructions: All submissions received must include the agency name, docket number and title for this Federal Register document. The general policy for comments and other submissions from members of the public is to make these submissions available for public viewing on the Internet at http://www.regulations.gov as they are received without change, including any personal identifiers or contact information.

FOR FURTHER INFORMATION CONTACT: To request more information on this proposed information collection or to obtain a copy of the proposal and associated collection instruments, please write to Division of Toxicology, Brody School of Medicine at East Carolina University, ATTN: Allison Mainhart, Clinical Research Coordinator. 600 Moye Boulevard, Greenville, NC 27834. Telephone 252-744-5568.

Title; Associated Form; and OMB Number: A Trial of Dextromethorphan and Naltrexone for Gulf War illness. Associated Form: Telephone Screening Form, CDMRP GW080064; OMB Control Number 0704-TBD.

Needs and Uses: The information collection requirement is necessary in order to contact veterans of the Gulf War to see if they are interested and qualified to participate in a research study.

Affected Public: Gulf War Veterans.

Annual Burden Hours: 15.

Number of Respondents: 60.

Responses per Respondent: 1.

Average Burden per Response: 15 minutes.

Frequency: On occasion.

SUPPLEMENTARY INFORMATION:

Summary of Information Collection

Respondents are Gulf War veterans who served in the 1991 Gulf War. Information collected is dates of service in the Gulf, and answers to questions about health after obtaining informed consent approved by both the DoD institutional review board (IRB) and the East Carolina University IRB.

Dated: June 6, 2011.
Aaron Siegel,
Alternate OSD Federal Register Liaison Officer, Department of Defense.

[FR Doc. 2011-14326 Filed 6-8-11; 8:45 am]

BILLING CODE 5001-06-P